DEPARTMENT OF COMMERCE

National Oceanic and Atmospheric Administration

[I.D. 100804C]

Gulf of Mexico Fishery Management Council; Public Meeting

AGENCY: National Marine Fisheries Service (NMFS), National Oceanic and Atmospheric Administration (NOAA), Commerce.

ACTION: Notice of Southeast Data, Assessment and Review (SEDAR) 7 Assessment Workshop for Gulf of Mexico Red Snapper.

SUMMARY: The SEDAR process for the Gulf of Mexico Red Snapper consists of a series of three workshops: a data workshop, an assessment workshop, and a review workshop. A second Assessment Workshop is being held to continue the assessment work that could not be completed during the first Assessment Workshop for red snapper. See SUPPLEMENTARY INFORMATION.

DATES: The SEDAR 7 Assessment Workshop II for red snapper will take place December 14-17, 2004. The workshop will be held December 14-16, 2004, 8:30 a.m. 5:30 p.m. and December 17, 2004, 8:30 a.m.-1 p.m.

ADDRESSES: The Assessment Workshop will be held at the Wyndham Grand Bay Hotel, 2669 South Bayshore Drive, Coconut Grove, FL 33133; telephone: (305)858-9600.

FOR FURTHER INFORMATION CONTACT: John Carmichael, SEDAR Coordinator, SEDAR/SAFMC, One Southpark Circle, Suite 306, Charleston, SC 29407; telephone: (843) 571-4366 or toll free (866) SAFMC-10; fax: (843) 769-4520.

SUPPLEMENTARY INFORMATION: The Gulf of Mexico, South Atlantic, and Caribbean Fishery Management Councils, in conjunction with NOAA Fisheries and the Atlantic and Gulf States Marine Fisheries Commissions, have implemented the SEDAR process, a multi-step method for determining the status of fish stocks in the Southeast Region. SEDAR typically includes three workshops: (1) Data workshop, (2) assessment workshop, and (3) review workshop. The product of the data workshop and the assessment workshop is a stock assessment report, which describes the fisheries, evaluates the status of the stock, estimates biological benchmarks, projects future population conditions, and recommends research and monitoring needs. The assessment report is independently peer reviewed at the review workshop. The products of the review workshop are a Consensus Summary Report, which reports Panel opinions regarding the strengths and weaknesses of the stock assessment and input data, and an Advisory Report, which summarizes the status of the stock. Participants for SEDAR workshops are appointed by the Regional Fishery Management Councils. Participants include data collectors, database managers, stock assessment scientists, biologists, fisheries researchers, fishermen, environmentalists, Council members, international experts, and staff of Regional Councils, Interstate Commissions, and state and Federal agencies.

The Assessment Workshop conducts stock assessments, prepares stock rebuilding analyses, and estimates population benchmarks. Workshop Panelists analyze the available data and document their opinions on various stock assessment models. Panelists are responsible for drafting section III of the SEDAR Stock Assessment Report.

During the first SEDAR 7 Gulf of Mexico Red Snapper Assessment Workshop a number of data and modeling issues were identified that could not be adequately addressed in the time allotted. Therefore a second Assessment Workshop will be held to complete the stock assessment of red snapper.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the South Atlantic Fishery Management Council office at the address listed above at least 5 business days prior to the workshop.

Dated: October 12, 2004.
Alan D. Risenhoover,
Acting Director, Office of Sustainable Fisheries, National Marine Fisheries Service.

[FR Doc. E4-2690 Filed 10-15-04; 8:45 am]

BILLING CODE 3510-22-S